FEDERAL COMMUNICATIONS COMMISSION

Public Information Collections Approved by Office of Management and Budget

February 8, 2007.

SUMMARY: The Federal Communications Commission (Commission) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION: OMB Control No.: 3060-0292.

OMB Approval date: 1/10/2007.

Expiration Date: 1/31/2010.

Title: Part 69—Access Charges (Section 69.605, Reporting and Distribution of Pool Access Revenues.

Form No.: N/A.

Estimated Annual Burden: 15,000 responses; 11,250 total annual burden hours.

Needs and Uses: Part 69 of the Commission's rules and regulations establishes the rules for access charges for interstate or foreign access provided by telephone companies. Local telephone companies and states are required to submit information to the Commission and/or the National Exchange Carrier Association. The information is used to compute charges in tariffs for access service (or origination and termination) and to computer revenue pool distributions.

OMB Control No.: 3060-0743.

OMB Approval date: 1/16/2007.

Expiration Date: 1/31/2010.

Title: Implementation of the Pay Telephone Reclassification and Compensation Provisions of the Telecommunications Act of 1996, CC Docket No. 96-128. Part 36—Separations.

Form No.: N/A.

Estimated Annual Burden: 10,071 responses; 118,137 total annual burden hours.

Needs and Uses: The Commission has rules and requirements implementing Section 276 of the Telecommunications Act of 1996. Among other things, the rules: (1) Establish fair compensation for every completed intrastate and interstate payphone call; (2) discontinue intrastate and interstate access charge payphone service elements and payments, and intrastate and interstate payphone subsidies from basic exchange services; and (3) adopt guidelines for use by the states in establishing public interest payphones to be located where there would otherwise not be a payphone.

OMB Control No.: 3060-0775.

OMB Approval date: 1/16/2007.

Expiration Date: 1/31/2010.

Title: Section 64.1903, Obligations of All Incumbent Local Exchange Carriers (LECs).

Form No.: N/A.

Estimated Annual Burden: 10 responses; 60,560 total annual burden hours.

Needs and Uses: Independent Local Exchange Carriers (LECs) wishing to offer international, inter-exchange services must comply with the separate affiliate requirements of the Competitive Carrier Fifth Report and Order in order to do so. One of these requirements is that the independent LEC's international, inter-exchange affiliate must maintain books of account separate from such LEC's local exchange and other activities. This regulation does not require that the affiliate maintain books of account that comply with the Commission's Part 32 rules; rather, it refers to the fact that as a separate legal entity, the international, inter-exchange affiliate must maintain its own books of account in the ordinary course of its business.

OMB Control No.: 3060-0952.

OMB Approval date: 1/10/2007.

Expiration Date: 1/31/2010.

Title: Proposed Demographic Information and Notifications, Second FNPRM, CC Docket No. 98-147 and Fifth NPRM, CC Docket No. 96-98.

Form No.: N/A.

Estimated Annual Burden: 10,071 responses; 118,137 total annual burden hours.

Needs and Uses: The Commission requires incumbent LECs to provide requesting carriers with demographic and other information regarding particular remote terminals similar to the information available regarding incumbent LEC central offices. Requesting carriers use demographic and other information obtained from incumbent LECs to determine whether they wish to collocate at particular remote terminals.

OMB Control No.: 3060-1096.

OMB Approval date: 2/05/2007.

Expiration Date: 2/28/2010.

Title: Prepaid Calling Card Service Provider Certification, WC Docket 05-68.

Form No.: N/A.

Estimated Annual Burden: 3,148 responses; 78,700 total annual burden hours.

Needs and Uses: Prepaid calling card service providers must now report quarterly the percentage of interstate, intrastate and international access charges to carriers from which they purchase transport services. Prepaid calling card providers must also file certifications with the Commission quarterly that include the above information and a statement that they are contributing to the federal Universal Service Fund based on all interstate and international revenue, except for revenue from the sale of prepaid calling cards by, to, or pursuant to contract with the DoD or a DoD entity.

Federal Communications Commission.
William F. Caton,
Secretary.

[FR Doc. E7-2575 Filed 2-13-07; 8:45 am]

BILLING CODE 6712-01-P